ENVIRONMENTAL PROTECTION AGENCY

[ER-FRL-6640-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal activities at (202) 564-7167. An explanation of the ratings assigned to draft environmental impact statements (EISs) was published in FR dated April 01, 2003 (68 FR 16511).

Draft EISs

ERP No. D-AFS-K65252-CA Rating LO, Combined Array for Research in Millimeter-wave Astronomy (CARMA) Project, Construction, Reconstruction and Operation of 23 Antennas at the Juniper Flat Site, Special-Use-Permit Issuance, Inyo Mountain, Inyo National Forest, Inyo County, CA.

Summary: EPA expressed a lack of objections to this project.

ERP No. D-FHW-J40160-ND Rating LO, Liberty Memorial Bridge Replacement Project, Poor and Deteriorating Structural Rehabilitation or Reconstruction, U.S. Coast Guard and U.S. Army COE Section 10 and 404 Permits Issuance, Missouri River, Bismarck and Mandan, ND.

Summary: EPA has no environmental concerns or objections to the proposed project.

ERP No. D-NPS-L61226-AK Rating LO, Glacier Bay National Park and Preserve Vessel Quotas and Operating Requirements for Cruise Ships and Tour, Charter, and Private Vessels, Implementation, AK.

Summary: EPA requested additional information on Environmental Justice and Tribal Consultation be included in the final EIS.

ERP No. DS-NPS-E61074-00 Rating LO, Big South Fork National River and Recreation Area, General Management Plan, Implementation, Additional Information concerning Resources, Roads and Trails, McCreary, KY and Fentress, Morgan, Pickett and Scott Counties, TN.

Summary: EPA did not identify any potential environmental impacts requiring substantive changes to the proposal.

Final EISs

ERP No. F-AFS-K65248-CA North Fork Fire Salvage Project, Harvest Salvage, Merchantable Timber Volume Sale and Sierra National Forest Land and Resource Management Plan, Implementation, Bass Lake Ranger District, Madera County, CA.

Summary: No formal comment letter was sent to the preparing agency.

ERP No. F-BLM-K60033-NV, Toquop Energy Project, Toquop Land Disposal Amendment to the Caliente Management Framework Plan (MFP), Construction of a 1,100-megawatt (MW) Natural Gas-Fired Water-Cooled Electric Power Generating Plant and Associated Features on Public Lands, Right-of-Way Grant, Lincoln, Clark and Washoe Counties, NV.

Summary: No formal comment letter was sent to the preparing agency.

ERP No. F-BLM-L65399-OR, Kelsey Whisky Landscape Management Planning Area, Implementation, Associated Medford District Resource Management Plan Amendments, Josephine and Jackson Counties, OR.

Summary: EPA continues to have environmental concerns with several aspects of the plan including needs for: a reduction in the number of miles of roads to be decommissioned or closed; and protection of a botanical transition zone and late succession reserves and important habitat for two endangered bird species.

ERP No. F-FTA-E59002-NC, South Corridor Light Rail Project to Provide Light Rail Service between the Town of Pineville and Downtown Charlotte, City of Charlotte, Charlotte-Mecklenburg County, NC.

Summary: EPA has no objections to the project as proposed.

Dated: May 20, 2003.
Joseph C. Montgomery,
Director, NEPA Compliance Division, Office of Federal Activities.

[FR Doc. 03-13012 Filed 5-22-03; 8:45 am]

BILLING CODE 6560-50-P